DEPARTMENT OF THE INTERIOR

National Park Service

36 CFR Part 13

RIN 1024-AD13

National Park System Units in Alaska

AGENCY: National Park Service, Interior.

ACTION: Proposed rule; public comment period extension.

SUMMARY: The NPS is extending the public comment period for this Proposed Rule to June 16, 2004. A Notice of the Proposed Rule was published April 2, 2004 (69 FR 17355, RIN 1024-AD13), with a 60-day public comment period originally scheduled from April 2, 2004 to June 1, 2004.

DATES: Comments to be received by June 16, 2004.

ADDRESSES: Send comments by mail to: National Park Service, Regional Director, Alaska Regional Office, 240 West 5th Ave., Anchorage, AK 99501. By e-mail to: akro_regulations@nps.gov. By fax to: 907) 644-3805.

FOR FURTHER INFORMATION CONTACT: National Park Service, Victor Knox, Associate Regional Director, Alaska Regional Office, 240 West 5th Ave., Anchorage, AK 99501. Telephone: (907) 644-3501. E-mail: akro_regulations@nps.gov. Fax (907) 644-3816.

Dated: June 2, 2004.
Kayci Cook Collins,
Alaska Desk Officer.

[FR Doc. 04-12816 Filed 6-4-04; 8:45 am]

BILLING CODE 4312-52-P